DEPARTMENT OF LABOR

Employment and Training Administration

[TA-W-56,589]

Nokia, Fort Worth, TX; Notice of Termination of Investigation

Pursuant to Section 221 of the Trade Act of 1974, as amended, an investigation was initiated on February 17, 2005 in response to a petition filed by a state agency representative on behalf of workers at Nokia, Ft. Worth, Texas.

The petitioner has requested that the petition be withdrawn. Consequently, the investigation has been terminated.

Signed at Washington, DC this 7th day of March, 2005.
Linda G. Poole,
Certifying Officer, Division of Trade Adjustment Assistance.

[FR Doc. E5-1360 Filed 3-25-05; 8:45 am]

BILLING CODE 4510-30-P